ENVIRONMENTAL PROTECTION AGENCY

[EPA-HQ-OPPT-2020-0617; FRL-12434-01-OMS]

Agency Information Collection Activities; Submission to the Office of Management and Budget for Review and Approval; Comment Request; Toxic Substances Control Act (TSCA) Mercury Inventory Reporting (Renewal)

AGENCY: Environmental Protection Agency (EPA).

ACTION: Notice.

SUMMARY: The Environmental Protection Agency (EPA) submitted an information collection request (ICR), TSCA Mercury Inventory Reporting, (EPA ICR Number 2567.05, OMB Control Number 2070-0207) to the Office of Management and Budget (OMB) for review and approval in accordance with the Paperwork Reduction Act. This is a proposed extension of the ICR which is currently approved through February 28, 2025. Public comments were previously requested via the Federal Register on May 2, 2024 during a 60-day comment period. This notice allows for an additional 30 days for public comments.

DATES: Comments may be submitted on or before December 23, 2024.

ADDRESSES: Submit your comments, referencing Docket ID Number EPA-HQ-OPPT-2020-0617, to EPA online using www.regulations.gov (our preferred method), or by mail to: EPA Docket Center, Environmental Protection Agency, Mail Code 2821T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Katherine Sleasman, Office of Program Support (7602M), Office of Chemical Safety and Pollution Prevention, Environmental Protection Agency, 1200 Pennsylvania Ave. NW, Washington, DC 20460; telephone number: (202) 566-1206; email address: sleasman.katherine@epa.gov.

SUPPLEMENTARY INFORMATION: This is a proposed extension of the ICR, which is currently approved through February 28, 2025. An agency may not conduct, or sponsor and a person is not required to respond to a collection of information unless it displays a currently valid OMB control number.

Public comments were previously requested via the Federal Register on May 2, 2024, during a 60-day comment period (89 FR 35821). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Abstract: As directed under the Toxic Substances Control Act, EPA is required to assist in the preparation and publication in the Federal Register of an “inventory of mercury supply, use, and trade in the United States” (15 U.S.C. 2607(b)(10)(B) and (D)). Based on the inventory of information collected through this ICR, the Agency is directed to “identify any manufacturing processes or products that intentionally add mercury” and “recommend actions, including proposed revisions of Federal law or regulations, to achieve further reductions in mercury use” (15 U.S.C. 2607(b)(10)(C)).

The primary purpose of this ICR is to support the development of that inventory. In turn, the inventory will help the Agency identify uses of mercury and recommend means to achieve further reductions of such uses in commerce. In addition, the Agency seeks to obtain the information necessary to achieve its goal to further reduce the use of mercury in products and certain manufacturing processes in order to prevent future releases to the environment, as well as assist the United States in reporting implementation under the Minamata Convention. EPA seeks to enhance its current information on how much mercury is used, in which products and manufacturing processes, and whether certain products are manufactured domestically, imported, or exported.

Reporting is required from any person who manufactures (including imports) mercury or mercury-added products, as well as any person who otherwise intentionally uses mercury in a manufacturing process under TSCA section 8(b). The Agency promulgated reporting requirements at 40 CFR part 713. To avoid duplication, EPA coordinated the reporting with the Interstate Mercury Education and Reduction Clearinghouse (IMERC).

Form number: 9600-024.

Respondents/affected entities: Entities potentially affected are those that manufacture (including import) mercury, manufacture (including import) mercury containing products, and those who intentionally use mercury in a manufacturing process.

Respondent's obligation to respond: Mandatory, per TSCA section 8(b) and 40 CFR 713.

Estimated number of respondents: 105 (total).

Frequency of response: Triennial.

Total estimated burden: 2,573 hours (per year). Burden is defined at 5 CFR 1320.3(b).

Total estimated cost: $223,592 (per year), which includes $0 annualized capital or operation & maintenance costs.

Changes in the Estimates: There is a decrease of 14,775 hours in the total estimated respondent burden compared with the ICR currently approved by OMB. This decrease reflects a change in EPA's method of estimating the number of expected reports. In 2021, EPA amended the original final rule to effectuate the vacatur ordered by the Second Circuit Court. In this ICR, with data available from the Mercury Inventory and with no new changes to the rule itself, this ICR utilizes data from the Reporting Year 2021 of the Mercury Inventory. In the RY 2021, there were 105 submissions (the previous ICR used an estimate of 252). This ICR assumes each respondent completes the entire form. Wages were also updated to 2022 dollars. This change is an adjustment.

Courtney Kerwin,
Director, Information Engagement Division.

[FR Doc. 2024-27396 Filed 11-21-24; 8:45 am]

BILLING CODE 6560-50-P